DEPARTMENT OF ENERGY

Federal Energy Regulatory Commission

Combined Notice of Filings #1

Take notice that the Commission received the following electric rate filings:

Docket Numbers: ER16-355-004; ER16-141-006; ER15-255-005; ER10-2032-010; ER10-2033-010; ER15-190-021; ER12-2313-007; ER10-1330-009; ER18-2466-002; ER18-2465-002; ER19-2343-003; ER17-2336-007; ER18-1343-015.

Applicants: Carolina Solar Power, LLC, Shoreham Solar Commons LLC, 2018 ESA Project Company, LLC, Potter Road Powerhouse LLC, Federal Way Powerhouse LLC, North Allegheny Wind, LLC, Laurel Hill Wind Energy, LLC, Duke Energy Renewable Services, LLC, Duke Energy Ohio, Inc., Duke Energy Kentucky, Inc., Duke Energy Beckjord Storage, LLC, Conetoe II Solar, LLC, Colonial Eagle Solar, LLC.

Description: Supplement to December 20, 2022, Triennial Market Power Analysis for Northeast Region of Duke MBR Sellers.

Filed Date: 6/20/23.

Accession Number: 20230620-5241.

Comment Date: 5 p.m. ET 7/11/23.

Docket Numbers: ER22-1731-002.

Applicants: Southwest Power Pool, Inc.

Description: Compliance filing: Settlement Compliance Filing of MRES in Response to May 23 Order to be effective 7/1/2022.

Filed Date: 6/22/23.

Accession Number: 20230622-5019.

Comment Date: 5 p.m. ET 7/13/23.

Docket Numbers: ER23-1653-001.

Applicants: Jersey Central Power & Light Company, PJM Interconnection, L.L.C.

Description: Tariff Amendment: Jersey Central Power & Light Company submits tariff filing per 35.17(b): JCPL Responses to Deficiency Letter in ER23-1653 to be effective 6/17/2023.

Filed Date: 6/22/23.

Accession Number: 20230622-5035.

Comment Date: 5 p.m. ET 7/13/23.

Docket Numbers: ER23-1730-001.

Applicants: Pacific Gas and Electric Company.

Description: Tariff Amendment: Amendment to Q1 2023 Quarterly Filing of CCSF's WDT SA (SA 275) to be effective 3/31/2023.

Filed Date: 6/22/23.

Accession Number: 20230622-5069.

Comment Date: 5 p.m. ET 7/13/23.

Docket Numbers: ER23-1876-001.

Applicants: Public Service Company of Colorado.

Description: Tariff Amendment: 2023-06-22-TSGT-Fox Run Bndry Agrmt-743—Errata Filling to be effective 7/11/2023.

Filed Date: 6/22/23.

Accession Number: 20230622-5102.

Comment Date: 5 p.m. ET 7/13/23.

Docket Numbers: ER23-2207-000.

Applicants: PJM Interconnection, L.L.C.

Description: Tariff Amendment: Notice of Cancellation of ISA, Service Agreement No. 5616; Queue No. AD1-143 to be effective 8/23/2023.

Filed Date: 6/22/23.

Accession Number: 20230622-5027.

Comment Date: 5 p.m. ET 7/13/23.

Docket Numbers: ER23-2208-000.

Applicants: PJM Interconnection, L.L.C.

Description: § 205(d) Rate Filing: Original WMPA, Service Agreement No. 6972; Queue No. AF1-167 to be effective 8/1/2023.

Filed Date: 6/22/23.

Accession Number: 20230622-5032.

Comment Date: 5 p.m. ET 7/13/23.

Docket Numbers: ER23-2209-000.

Applicants: Tri-State Generation and Transmission Association, Inc.

Description: § 205(d) Rate Filing: Initial Filing of Service Agreement No. 913 to be effective 5/30/2023.

Filed Date: 6/22/23.

Accession Number: 20230622-5034.

Comment Date: 5 p.m. ET 7/13/23.

Docket Numbers: ER23-2210-000.

Applicants: El Paso Electric Company.

Description: § 205(d) Rate Filing: Rate Schedule No. 361 Cost Reimbursement Agreement between SunZia and El Rio Sol to be effective 5/31/2023.

Filed Date: 6/22/23.

Accession Number: 20230622-5046.

Comment Date: 5 p.m. ET 7/13/23.

Docket Numbers: ER23-2211-000.

Applicants: El Paso Electric Company.

Description: Tariff Amendment: Termination of Service Agreement No. 346, EPE—La Mesa PV I LLC SGIA As Amended to be effective 6/5/2023.

Filed Date: 6/22/23.

Accession Number: 20230622-5051.

Comment Date: 5 p.m. ET 7/13/23.

Docket Numbers: ER23-2212-000.

Applicants: New York Independent System Operator, Inc., Consolidated Edison Company of New York, Inc.

Description: § 205(d) Rate Filing: New York Independent System Operator, Inc. submits tariff filing per 35.13(a)(2)(iii: Con Edison Proposed FR Template and Protocols in Rate Schedules 10 and 19 to be effective 8/22/2023.

Filed Date: 6/22/23.

Accession Number: 20230622-5080.

Comment Date: 5 p.m. ET 7/13/23.

Docket Numbers: ER23-2213-000.

Applicants: Southwest Power Pool, Inc.

Description: § 205(d) Rate Filing: 2491R11 Evergy Kansas Central, Inc. NITSA NOA to be effective 9/1/2023.

Filed Date: 6/22/23.

Accession Number: 20230622-5081.

Comment Date: 5 p.m. ET 7/13/23.

Docket Numbers: ER23-2214-000.

Applicants: PJM Interconnection, L.L.C.

Description: § 205(d) Rate Filing: Original ISA and ICSA, Service Agreement Nos. 6947 and 6948; Queue No. AD2-066 to be effective 8/21/2023.

Filed Date: 6/22/23.

Accession Number: 20230622-5099.

Comment Date: 5 p.m. ET 7/13/23.

Docket Numbers: ER23-2215-000.

Applicants: Southwest Power Pool, Inc.

Description: § 205(d) Rate Filing: 3675R4 Doniphan Electric Cooperative Assn, Inc. NITSA NOA to be effective 9/1/2023.

Filed Date: 6/22/23.

Accession Number: 20230622-5106.

Comment Date: 5 p.m. ET 7/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 22, 2023.
Kimberly D. Bose,
Secretary.

[FR Doc. 2023-13761 Filed 6-27-23; 8:45 am]

BILLING CODE 6717-01-P